OVERSEAS PRIVATE INVESTMENT CORPORATION

Sub-Saharan African Infrastructure Fund

AGENCY: Overseas Private Investment Corporation.

ACTION: Call for proposals.

SUMMARY: This Call for Proposals invites qualified prospective fund managers to submit proposals for consideration by the Overseas Private Investment Corporation (“OPIC”) for management of a sub-Saharan African infrastructure fund (the “Fund”). The Fund will be a private equity fund with aggregate capital of up to $350 million that will invest in privately sponsored infrastructure projects in the countries of sub-Saharan Africa. A portion of the Fund's total capital must be unguaranteed private equity, and the remainder will be senior secured indebtedness guaranteed by OPIC. The primary purpose of any such fund will be to achieve long-term capital appreciation through investments in infrastructure projects in sub-Saharan Africa. This fund will succeed a previously approved fund of the same size with the same primary purpose. Prospective managers may obtain an OPIC Investment Funds Program Description and an evaluation Questionnaire from OPIC's web site (http://www.opic.gov) or by contacting OPIC. OPIC may periodically post additional information on its web site in the form of Supplements to the Call for Proposals. The identity of all persons submitting proposals will be posted on OPIC's web site.

DATES: Submit proposals to OPIC no later than 5 p.m. Eastern Standard Time on December 29, 2000.

ADDRESSES: Proposals must be received at OPIC's offices at 1100 New York Avenue, N.W., Washington, D.C. 20527.

FOR FURTHER INFORMATION CONTACT: Jeffrey T. Griffin, Vice-President, Investment Funds Department, OPIC, by telephone at (202) 336-8620.

SUPPLEMENTARY INFORMATION: The Overseas Private Investment Corporation (“OPIC”) is a self-sustaining U.S. government agency that assists U.S. private investment in over 140 emerging market economies and developing countries through four principal activities: project finance, political risk insurance, private equity investment funds and outreach activities. OPIC assisted projects are required to uphold important American values relating to human rights, workers' rights, the environment, and the impact on the U.S. economy as well as other matters.

OPIC is announcing that it is inviting proposals with respect to a private equity fund with aggregate capital of up to $350 million that will invest in privately sponsored infrastructure projects in the countries of sub-Saharan Africa. A portion of the fund's total capital must be unguaranteed private equity, and the remainder will be senior secured indebtedness guaranteed by OPIC. The primary purpose of any such fund will be to achieve long-term capital appreciation through investments in infrastructure projects in sub-Saharan Africa. Such investments will provide capital for project development, business expansion, restructurings and privatizations.

This fund will succeed a previously approved fund of the same size with the same primary purpose.

OPIC would expect “infrastructure” to include, among other things:

• Environmental services such as urban and rural water supply and distribution, sanitation, solid waste disposal and waste treatment projects;

• Bulk water supply such as water reservoirs and transfer schemes utilizing methods such as dams and pipelines;

• Transportation systems such as toll roads, harbors, light and heavy rail systems and equipment, and airports and related services including airlines;

• Energy related projects such as power generation at independent power plants, transmission and distribution, and oil and gas processing and transportation; and

• Telecommunications such as international cable links, satellite communications, wireless communications, fixed line expansions and other related supplier and operator activities.

The fund will also seek to provide support to woman entrepreneurs and to innovative investments that expand opportunities for women and maximize employment opportunities for poor individuals.

The fund will be privately owned and privately managed. OPIC is seeking proposals from qualified prospective fund managers. The proposed fund manager must demonstrate experience and success on at least the following four criteria: Capital raising capability; private equity management; a broad infrastructure investment record; and sub-Saharan Africa experience.

Proposals should identify the sources of capital that the proposer would expect to approach on behalf of the fund (either directly or through an independent securities placement agent). OPIC's preference is for a majority of the fund's equity to be provided by U.S. investors.

Proposals should describe the legal, financial and management structure that the proposed fund manager recommends for the fund. This should include the level of economic return and the other benefits that the various investors would look for, as well as the proposed compensation for the fund's management. The fund should be structured to ensure that it fully covers the cost of the program, including the OPIC-guaranteed debt, as well as projected fees and profit participations.

OPIC's evaluation of proposals will be based primarily on the following criteria:

• The ability of the fund sponsors to raise the required private capital in a reasonable period of time.

• The credibility and thoughtfulness of the fund's strategic concept and business plan.

• The experience and depth of the proposed management, both in the U.S. and in the countries where investments are to be made. OPIC seeks fund managers with a track record in direct equity investments and relevant regional experience. OPIC will weigh heavily the team's experience in infrastructure investment and project finance. The fund manager is expected to add value to the portfolio investments by providing management expertise and enhancing the business of portfolio investments, and to have a strategy for the eventual liquidation of investments.

• The amount and terms of the OPIC-guaranteed debt required by the fund.

• The responsiveness of the fund to current foreign policy objectives of the United States.

An OPIC Investment Funds Program Description, and a Questionnaire, may be obtained on OPIC's web site (http://www.opic.gov). The Questionnaire is designed to identify information that will be helpful to OPIC in evaluating proposals.

OPIC may periodically post additional information on its internet web site in the form of Supplements to the Call for Proposals. Any information so designated on OPIC's web site may supplement or modify, and will be considered a part of, the information set forth in this Call for Proposals. The identity of all persons submitting proposals will be promptly posted on OPIC's web site, so that they are known to each other.

Proposals must be submitted both in writing and on diskette. Five copies of each proposal, together with a copy on diskette in Microsoft Word or Excel 97 format, as appropriate, must be received by OPIC by 5:00 p.m., Eastern Standard Time, on Friday, December 29, 2000. Proposals submitted after this time will not be accepted. OPIC may make a determination based solely on the written proposals. OPIC will begin review of proposals as they are received. Proposals submitted may be supplemented at any time up to the deadline for submission of proposals. Information contained in proposals or questions from submitters will not be given proprietary treatment. OPIC may suggest its own formulation from among the proposals it receives or based on its own analysis, which formulation may include a suggestion that certain proposals be combined. Such a suggestion from OPIC would not reinitiate this Call for Proposals process. OPIC also reserves the right not to select any of the proposals or alternatives and to re-initiate this Call for Proposals. The issuance of this Call for Proposals does not obligate OPIC to provide support to any proposal nor any fund.

Jeffrey T. Griffin,
Vice President/Investment Funds, Overseas Private Investment Corporation.

[FR Doc. 00-32729 Filed 12-21-00; 8:45 am]

BILLING CODE 3210-01-U